DEPARTMENT OF JUSTICE

Notice of Lodging of Consent Decree Under the Comprehensive Environmental Response, Compensation, and Liability Act of 1980

Notice is hereby given that on November 5, 2004 a proposed Consent Decree in United States v. the Atlantic Richfield Company, an action under Sections 107 and 113 of the Comprehensive Environmental Response, Compensation, and Liability Act of 1980 (“CERCLA”) as amended, 42 U.S.C. 9607 and 9613, was lodged with the United States District Court for the District of Utah, Case No. 2:04CV01028 BSJ.

In this action, the United States sought the recovery of costs incurred and to be incurred by the United States in response to releases or threatened releases of hazardous substances at and from the Eureka Mills NPL Site located in Eureka, Utah (the “Site”). The United States alleged that the Atlantic Richfield Company was liable under CERCLA Section 107(a)(1) and (2), 42 U.S.C. 9607(a)(1) and (2), as a past owner and operator of a portion of the Site at the time of disposal and as a present owner of a portion of the Site upon which hazardous substances have been released, for those response costs set forth in CERCLA Section 107(a)(4)(A)-(D), 42 U.S.C. 96707(a)(4)(A)-(D).

The settlement between the United States and the Atlantic Richfield Company provides that the Atlantic Richfield Company will implement the remedy for the Site selected by the Environmental Protection Agency (“EPA”) on those portions of the Site on which the United States has alleged that the Atlantic Richfield Company was responsible for under CERCLA. EPA estimates that the value of the work to be done by the Atlantic Richfield Company is in excess of $6.1 million.

The Department of Justice will receive for a period of thirty (30) days from the date of this publication comments relating to the Consent Decree. Comments should be addressed to the Assistant Attorney General, Environmental and Natural Resources Division, P.O. Box 7611, U.S. Department of Justice, Washington, DC 20044-7611, and should refer to United States v. the Atlantic Richfield Company, et. al., DJ#90-11-3-07993/3.

The Consent Decree may be examined at U.S. EPA Region 8, 999 18th Street, Suite 500, Denver, Colorado, 80202. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $20.00 for the Decree (excluding appendices), $51 for the Decree with attachments payable to the United States Treasury.

Robert Brook,
Assistant Chief, Environmental Enforcement Section, Environmental and Natural Resources Division.

[FR Doc. 04-25533 Filed 11-17-04; 8:45 am]

BILLING CODE 4410-15-M